DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: December 21, 2016.
Roy E. Wright,
Deputy Associate Administrator for Insurance and Mitigation, Department of Homeland Security, Federal Emergency Management Agency.

State and county | Location and case No. | Chief executive officer of community | Community map repository | Effective date of modification | Community No.
Alabama:
Mobile (FEMA Docket No.: B-1645) | City of Mobile (15-04-A099P) | The Honorable Sandy Stimpson, Mayor, City of Mobile, 205 Government Street, Mobile, AL 36602 | Engineering Department, 205 Government Street, Mobile, AL 36602 | Oct. 27, 2016 | 015007
Shelby (FEMA Docket No.: B-1645) | City of Chelsea (16-04-3295P) | The Honorable Samuel E. Niven, Sr., Mayor, City of Chelsea, 11611 Chelsea Road, Chelsea, AL 35043 | City Hall, 11611 Chelsea Road, Chelsea, AL 35043 | Oct. 27, 2016 | 010432
Shelby (FEMA Docket No.: B-1645) | Unincorporated areas of Shelby County (16-04-3295P) | The Honorable Rick Shepherd, Chairman, Shelby County Commission, 200 West College Street, Columbiana, AL 35051 | Shelby County Engineering Department, 506 Highway 70, Columbiana, AL 35051 | Oct. 27, 2016 | 010191
Arkansas:
Pulaski (FEMA Docket No.: B-1645) | City of North Little Rock (16-06-2901X) | The Honorable Joe Smith, Mayor, City of North Little Rock, P.O. Box 5757, North Little Rock, AR 72119 | Planning Department, 500 West 13th Street, North Little Rock, AR 72114 | Oct. 19, 2016 | 050182
Pulaski (FEMA Docket No.: B-1645) | City of Sherwood (16-06-2901X) | The Honorable Virginia Hillman Young, Mayor, City of Sherwood, P.O. Box 6256, Sherwood, AR 72124 | Engineering, Permit and Planning Department, 2199 East Kiehl Avenue, Sherwood, AR 72124 | Oct. 19, 2016 | 050235
Colorado:
El Paso (FEMA Docket No.: B-1645) | City of Colorado Springs (16-08-0119P) | The Honorable John Suthers, Mayor, City of Colorado Springs, 30 South Nevada Avenue, Colorado Springs, CO 80903 | Pikes Peak Regional Building Department, 2880 International Circle, Colorado Springs, CO 80910 | Oct. 27, 2016 | 080060
El Paso (FEMA Docket No.: B-1649) | City of Colorado Springs (16-08-0161P) | The Honorable John Suthers, Mayor, City of Colorado Springs, 30 South Nevada Avenue, Colorado Springs, CO 80903 | Pikes Peak Regional Building Department, 2880 International Circle, Colorado Springs, CO 80910 | Oct. 3, 2016 | 080060
El Paso (FEMA Docket No.: B-1645) | Unincorporated areas of El Paso County (16-08-0119P) | The Honorable Darryl Glenn, Chairman, El Paso County Board of Commissioners, 200 South Cascade Avenue, Suite 100, Colorado Springs, CO 80903 | Pikes Peak Regional Building Department, 2880 International Circle, Colorado Springs, CO 80910 | Oct. 27, 2016 | 080059
Jefferson (FEMA Docket No.: B-1645) | Unincorporated areas of Jefferson County (15-08-1142P) | The Honorable Libby Szabo, Chair, Jefferson County Board of Commissioners, 100 Jefferson County Parkway, Golden, CO 80419 | Jefferson County Planning and Zoning Division, 100 Jefferson County Parkway, Golden, CO 80419 | Oct. 21, 2016 | 080087
Florida:
Bay (FEMA Docket No.: B-1645) | Unincorporated areas of Bay County (15-04-9588P) | The Honorable Mike Nelson, Chairman, Bay County Board of Commissioners, 840 West 11th Street, Panama City, FL 32401 | Bay County Planning and Zoning Division, 840 West 11th Street, Panama City, FL 32401 | Oct. 17, 2016 | 120004
Broward (FEMA Docket No.: B-1645) | City of Fort Lauderdale (15-04-3747P) | The Honorable John P. “Jack” Seiler, Mayor, City of Fort Lauderdale, 100 North Andrews Avenue, Fort Lauderdale, FL 33301 | Building Services Division, 700 Northwest 19th Avenue, Fort Lauderdale, FL 33311 | Oct. 17, 2016 | 125105
Broward (FEMA Docket No.: B-1645) | City of Hallandale Beach (15-04-7116P) | The Honorable Joy F. Cooper, Mayor, City of Hallandale Beach, 400 South Federal Highway, Hallandale Beach, FL 33009 | Development Services Department, 400 South Federal Highway, Hallandale Beach, FL 33009 | Nov. 2. 2016 | 125110
Broward (FEMA Docket No.: B-1645) | City of Hollywood (15-04-7116P) | The Honorable Peter Bober, Mayor, City of Hollywood, P.O. Box 229045, Hollywood, FL 33022 | City Hall, 2600 Hollywood Boulevard, Hollywood, FL 33020 | Nov. 2. 2016 | 125113
Broward (FEMA Docket No.: B-1645) | Unincorporated areas of Broward County (15-04-3747P) | The Honorable Marty Kiar, Mayor, Broward County Board of Commissioners, 115 South Andrews Avenue, Room 417, Fort Lauderdale, FL 33301 | Broward County Environmental Licensing and Building Permitting Division, 1 North University Drive, Plantation, FL 33324 | Oct. 17, 2016 | 125093
Escambia (FEMA Docket No.: B-1645) | Pensacola Beach-Santa Rosa Island Authority (16-04-4004P) | The Honorable Dave Pavlock, Chairman, Santa Rosa Island Authority Board, P.O. Drawer 1208, Pensacola Beach, FL 32562 | City Hall, 1 Via de Luna, Pensacola Beach, FL 32561 | Oct. 25, 2016 | 125138
Lee (FEMA Docket No.: B-1645) | City of Sanibel (15-04-9705P) | The Honorable Kevin Ruane, Mayor, City of Sanibel, 800 Dunlop Road, Sanibel, FL 33957 | Building Department, 800 Dunlop Road, Sanibel, FL 33957 | Oct. 17, 2016 | 120402
Pinellas (FEMA Docket No.: B-1645) | City of St. Petersburg (16-04-4003P) | The Honorable Rick Kriseman, Mayor, City of St. Petersburg, 175 5th Street North, St. Petersburg, FL 33701 | Municipal Services Center, Permit Division, 1 4th Street North, St. Petersburg, FL 33701 | Oct. 25, 2016 | 125148
Polk (FEMA Docket No.: B-1645) | Unincorporated areas of Polk County (16-04-1134P) | The Honorable John E. Hall, Chairman, Polk County Board of Commissioners, P.O. Box 9005, Bartow, FL 33831 | Polk County Land Development Division, 330 West Church Street, Bartow, FL 33831 | Oct. 27, 2016 | 120261
St. Johns (FEMA Docket No.: B-1649) | Unincorporated areas of St. Johns County (16-04-2816P) | The Honorable Jeb Smith, Chairman, St. Johns County Board of Commissioners, 500 San Sebastian View, St. Augustine, FL 32084 | St. Johns County Building Services Division, 4040 Lewis Speedway, St. Augustine, FL 32084 | Oct. 28, 2016 | 125147
St. Johns (FEMA Docket No.: B-1649) | Unincorporated areas of St. Johns County (16-04-4045P) | The Honorable Jeb Smith, Chairman, St. Johns County Board of Commissioners, 500 San Sebastian View, St. Augustine, FL 32084 | St. Johns County Building Services Division, 4040 Lewis Speedway, St. Augustine, FL 32084 | Oct. 21, 2016 | 125147
Kentucky:
Warren (FEMA Docket No.: B-1649) | City of Bowling Green (15-04-9366P) | The Honorable Bruce Wilkerson, Mayor, City of Bowling Green, 1001 College Street, Bowling Green, KY 42101 | City-County Planning Commission of Warren County, 1141 State Street, Bowling Green, KY 42101 | Oct. 19, 2016 | 210219
Warren (FEMA Docket No.: B-1649) | Unincorporated areas of Warren County (15-04-9366P) | The Honorable Michael O. Buchanon, Warren County Judge-Executive, 429 East 10th Avenue, Suite 201, Bowling Green, KY 42101 | City-County Planning Commission of Warren County, 1141 State Street, Bowling Green, KY 42101 | Oct. 19, 2016 | 210312
Montana: Butte-Silver Bow (FEMA Docket No.: B-1645) | Unincorporated areas of Butte-Silver Bow County (15-08-1320P) | The Honorable Matthew Vincent, Chief Executive, Butte-Silver Bow County, 155 West Granite Street, Butte, MT 59701 | Butte-Silver Bow County Planning Department, 155 West Granite Street, Butte, MT 59701 | Oct. 25, 2016 | 300077
North Carolina:
Alamance (FEMA Docket No.: B-1645) | City of Burlington (16-04-0421P) | The Honorable Ian Baltutis, Mayor, City of Burlington, P.O. Box 1358, Burlington, NC 27216 | Municipal Building, 425 South Lexington Avenue, Burlington, NC 27215 | Nov. 7, 2016 | 370002
Burke and Catawba (FEMA Docket No.: B-1649) | City of Hickory (15-04-A419P) | The Honorable Rudy Wright, Mayor, City of Hickory, 76 North Center Street, Hickory, NC 28601 | Planning and Development Services Department, 76 North Center Street, Hickory, NC 28601 | Oct. 9, 2016 | 370054
Rhode Island: Kent (FEMA Docket No.: B-1645) | Town of Coventry (16-01-1501P) | Mr. Graham Waters, Manager, Town of Coventry, 1670 Flat River Road, Coventry, RI 02816 | Planning and Zoning Department, 1670 Flat River Road, Coventry, RI 02816 | Oct. 31, 2016 | 440004
Texas:
Collin (FEMA Docket No.: B-1645) | City of Allen (16-06-2118P) | The Honorable Stephen Terrell, Mayor, City of Allen, 305 Century Parkway, Allen, TX 75013 | Engineering Department, 305 Century Parkway, Allen, TX 75013 | Nov. 4, 2016 | 480131
Collin (FEMA Docket No.: B-1645) | City of Plano (16-06-0669P) | The Honorable Harry LaRosiliere, Mayor, City of Plano, P.O. Box 860358, Plano, TX 75074 | City Hall, 1520 K Avenue, Plano, TX 75074 | Oct. 14, 2016 | 480140
Collin (FEMA Docket No.: B-1649) | City of Sachse (16-06-0186P) | The Honorable Mike Felix, Mayor, City of Sachse, 3815 Sachse Road, Building B, Sachse, TX 75048 | City Hall, 3815 Sachse Road, Building B, Sachse, TX 75048 | Oct. 31, 2016 | 480186
Collin (FEMA Docket No.: B-1649) | City of Wylie (16-06-0186P) | The Honorable Eric Hogue, Mayor, City of Wylie, 300 Country Club Road, Building 100, Wylie, TX 75098 | City Hall, 300 Country Club Road, Building 100, Wylie, TX 75098 | Oct. 31, 2016 | 480759
Dallas (FEMA Docket No.: B-1645) | City of Garland (14-06-4283P) | The Honorable Douglas Athas, Mayor, City of Garland, 200 North 5th Street, Garland, TX 75040 | Municipal Building, 800 Main Street, Garland, TX 75040 | Oct. 24, 2016 | 485471
Dallas (FEMA Docket No.: B-1645) | City of Richardson (14-06-4283P) | The Honorable Paul Voelker, Mayor, City of Richardson, P.O. Box 830309, Richardson, TX 75080 | City Hall, 411 West Arapaho Road, Richardson, TX 75080 | Oct. 24, 2016 | 480184
Dallas (FEMA Docket No.: B-1645) | City of Sachse (16-06-0772P) | The Honorable Mike Felix, Mayor, City of Sachse, 3815 Sachse Road, Building B, Sachse, TX 75048 | Public Works Department, 3815-B Sachse Road, Sachse, TX 75048 | Oct. 21, 2016 | 480186
Harris (FEMA Docket No.: B-1645) | City of Baytown (16-06-0437P) | The Honorable Stephen DonCarlos, Mayor, City of Baytown, P.O. Box 424, Baytown, TX 77522 | City Hall, 2401 Market Street, Baytown, TX 77520 | Oct. 28, 2016 | 485456
Harris (FEMA Docket No.: B-1645) | City of Houston (16-06-0527P) | The Honorable Sylvester Turner, Mayor, City of Houston, P.O. Box 1562, Houston, TX 77251 | Floodplain Management Department, 1002 Washington Avenue, 3rd Floor, Houston, TX 77002 | Nov. 4, 2016 | 480296
Harris (FEMA Docket No.: B-1645) | Unincorporated areas of Harris County (16-06-0437P) | The Honorable Edward M. Emmett, Harris County Judge, 1001 Preston Street, Suite 911, Houston, TX 77002 | Harris County Permit Office, 10555 Northwest Freeway, Suite 120, Houston, TX 77092 | Oct. 28, 2016 | 480287
Harris (FEMA Docket No.: B-1645) | Unincorporated areas of Harris County (16-06-0527P) | The Honorable Edward M. Emmett, Harris County Judge, 1001 Preston Street, Suite 911, Houston, TX 77002 | Harris County Permit Office, 10555 Northwest Freeway, Suite 120, Houston, TX 77092 | Nov. 4, 2016 | 480287
Harris (FEMA Docket No.: B-1645) | Unincorporated areas of Harris County (16-06-0557P) | The Honorable Edward M. Emmett, Harris County Judge, 1001 Preston Street, Suite 911, Houston, TX 77002 | Harris County Permit Office, 10555 Northwest Freeway, Suite 120, Houston, TX 77092 | Nov. 4, 2016 | 480287
Tarrant (FEMA Docket No.: B-1645) | City of Mansfield (16-06-0957P) | The Honorable David L. Cook, Mayor, City of Mansfield, 1200 East Broad Street, Mansfield, TX 76063 | City Hall, 1200 East Broad Street, Mansfield, TX 76063. | Oct. 20, 2016 | 480606
Williamson (FEMA Docket No.: B-1645) | Unincorporated areas of Williamson County (16-06-0303P) | The Honorable Dan A. Gattis, Williamson County Judge, 710 South Main Street, Suite 101, Georgetown, TX 78626 | Williamson County Engineering Department, 3151 Southeast Inner Loop, Suite B, Georgetown, TX 78626 | Oct. 27, 2016 | 481079
Wise (FEMA Docket No.: B-1645) | City of Boyd (16-06-1325P) | The Honorable Rodney Scroggins, Mayor, City of Boyd, 100 East Rock Island Avenue, Boyd, TX 76023 | City Hall, 100 East Rock Island Avenue, Boyd, TX 76023 | Oct. 27, 2016 | 480676
West Virginia: Mingo (FEMA Docket No.: B-1645) | Town of Matewan (16-03-1666P) | The Honorable Sheila Kessler, Mayor, Town of Matewan, P.O. Box 306, Matewan, WV 25678 | Floodplain Department, 78 East 2nd Avenue, Room B5, Williamson, WV 25661 | Oct. 31, 2016 | 545538

[FR Doc. 2017-02409 Filed 2-6-17; 8:45 am]

BILLING CODE 9110-12-P